DEPARTMENT OF COMMERCE

National Oceanic and Atmospheric Administration

[RTID 0648-XE998]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, Wednesday, and Thursday, June 24, 2025 through June 26, 2025, beginning at 10:00 a.m. on Tuesday and 9:00 a.m. on Wednesday and Thursday.

ADDRESSES: The meeting will take place at the Hilton Garden Inn Freeport, 5 Park Street, Freeport, Maine 04032; telephone (207) 865-1433; online at https://www.hilton.com/en/hotels/pwmfdgi-hilton-garden-inn-freeport-downtown. Register for the webinar at https://nefmc-org.zoom.us/webinar/register/WN_KK4uHyH1TCu-FLJBJKEQVw

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, June 24, 2025

The Council will begin the day with a closed session of the Executive Committee to discuss sensitive information about Council resources in accordance with the Magnuson-Stevens Fishery Conservation and Management Act. Following this, the Council will convene an open session with introductions and announcements from the Council Chair. Reports on recent activities will be provided by the Council Chair and Executive Director, Greater Atlantic Regional Fisheries Office (GARFO), NOAA General Counsel, Northeast Fisheries Science Center (NEFSC), Mid-Atlantic Fishery Management Council (MAFMC), Atlantic States Marine Fisheries Commission (ASMFC), U.S. Coast Guard, and NOAA Enforcement.

The Council will receive a report from the Executive Director on the May 2025 Council Coordination Committee (CCC) and Northeast Region Coordinating Council (NRCC) meetings, which will include updates on national and regional fishery management priorities.

After the lunch break, Council staff will present an overview of Executive Order 14276, “Restoring American Seafood Competitiveness.” The Council will discuss potential measures to reduce regulatory burdens on domestic fisheries and will initiate an omnibus action to evaluate management flexibility measures such as specification frequency, rollover provisions, and in-season adjustment authority. The discussion will also include an update on the range of options and action timeline.

Later in the afternoon, the Council will be introduced to the Holistic Strategic Plan Initiative by the Parnin Group. The presentation will include an overview of the project's goals, a timeline and workplan, and a preview of interview and focus group planning.

The Council will then receive a presentation from NEFSC staff on offshore energy, with an overview of NOAA Fisheries' offshore wind monitoring standards. The Council will adjourn for the day and later host a public outreach session in the hotel lobby to encourage informal discussions between Council members, staff, industry representatives, and members of the public. All are welcome to attend.

Wednesday, June 25, 2025

The Council will reconvene the second day with a presentation by NEFSC staff on the peer-reviewed results of the 2025 Atlantic Sea Scallop Research Track Assessment. The Scallop Committee will then report on multiple topics, including the Scallop Strategic Plan, a review of the Limited Access General Category Individual Fishing Quota (IFQ) Program, updates to the Scallop Research Set-Aside (RSA) Program process, and other relevant items. The Council will also initiate Framework Adjustment 40 to develop specifications for the scallop 2026 fishing year, establish 2027 default measures, and consider additional management measures.

Following this, the Council will consider a joint action with the MAFMC on spiny dogfish, including a framework to modify accountability measures. The Council will review and consider adopting a range of draft alternatives for further analysis and discuss merging the 2026-2027 specifications into the action.

After the lunch break, the Council will hear a presentation from NEFSC on the results of the 2022 Cost Survey Effort. The Groundfish Committee will then provide a report including the initiation of Framework Adjustment 72 to set specifications for groundfish stocks for FY 2026-2028, establish U.S./Canada Total Allowable Catch (TAC) for FY 2026, and address other measures. The Council will also review and consider revisions to its 2025 groundfish priorities, with particular focus on Atlantic cod, and discuss options for transitioning cod stocks within the Northeast Multispecies Fishery Management Plan.

The day will conclude with an open period for public comment on matters not listed on the agenda.

Thursday, June 26, 2025

The Council will lead off the third and final day of its meeting with updates from the On-Demand Fishing Gear Conflict Working Group. The Council will receive updates on the development of a gear-marking framework to allow the use of fixed gear without persistent buoy lines in New England and Mid-Atlantic fisheries, as well as a progress report on Working Group activities.

GARFO staff will provide an overview of the Notice of Intent and public scoping process for revisions to the Atlantic Large Whale Take Reduction Plan. The Scientific and Statistical Committee (SSC) Social Science Subpanel Chair will then present on the subpanel's inaugural meeting, its goals and objectives, and the proposed 2025-2026 workplan.

The Council will receive planning updates from the Executive Director, including information on 2025 Council priorities, Inflation Reduction Act initiatives, action timelines, and other Council activities. The meeting will conclude with any other business the Council wishes to address.

Special Accommodations

This meeting is physically accessible to people with disabilities. Requests for sign language interpretation or other auxiliary aids should be directed to Executive Director Cate O'Keefe (see ADDRESSES) at least 5 days prior to the meeting date.

Authority: 16 U.S.C. 1801 et seq.

Dated: June 12, 2025.
Rey Israel Marquez,
Acting Deputy Director, Office of Sustainable Fisheries, National Marine Fisheries Service.

[FR Doc. 2025-11077 Filed 6-13-25; 8:45 am]

BILLING CODE 3510-22-P